DEPARTMENT OF LABOR

Mine Safety and Health Administration

Petitions for Modification

The following parties have filed petitions to modify the application of existing safety standards under section 101(c) of the Federal Mine Safety and Health Act of 1977.

1. Nowacki Coal Company

[Docket No. M-2003-044-C]

Nowacki Coal Company, 615 Old 209 Road, Tamaqua, Pennsylvania 18252-9764 has filed a petition to modify the application of 30 CFR 75.360 (Preshift examination at fixed intervals) to its Nowacki Coal Company Slope (MSHA I.D. No. 36-07592) located in Schuylkill County, Pennsylvania. The petitioner requests a modification of the existing standard to permit an alternative method of examination and evaluation of seals. The alternative method would include a visual examination of each seal for physical damage from the slope gunboat during the pre-shift examination after an air quantity reading is taken just inby the intake portal. The petitioner proposes to instruct the examiner to take an additional reading and gas test for methane, carbon dioxide, and oxygen deficiency at intake air split locations just off the slope in the gangway portion of the working section. A record of all readings, gas test results, and his/her initials, date, and time and location of examinations will be available to anyone prior to entering the mine. The petitioner states that regardless of the conditions at the section evaluation point, the entire length of the slope would be traveled and physically examined on a monthly basis. A record of the dates, time, and the initials of the person conducting the examinations will be made available on the surface. The petitioner also states that any hazards would be corrected prior to transporting personnel in the slope. The petitioner asserts that the proposed alternative method would provide at least the same measure of protection as the existing standard.

2. Nowacki Coal Company

[Docket No. M-2003-045-C]

Nowacki Coal Company, 615 Old 209 Road, Tamaqua, Pennsylvania 18252-9764 has filed a petition to modify the application of 30 CFR 75.364(b)(1), (4) and (5) (Weekly examination) to its Nowacki Coal Company Slope (MSHA I.D. No. 36-07592) located in Schuylkill County, Pennsylvania. The petitioner proposes to: (i) Preshift examine the intake haulage slope and primary escapeway areas from the gunboat/slope car with an alternative air quality evaluation at the section's intake gangway level; (ii) travel and thoroughly examine these areas for hazardous conditions once a month; and (iii) have the examiner place the dates, times, and his/her initials at appropriate locations and maintain records of the examination on the surface. The petitioner asserts that the proposed alternative method would provide at least the same measure of protection as the existing standard.

3. Nowacki Coal Company

[Docket No. M-2003-046-C]

Nowacki Coal Company, 615 Old 209 Road, Tamaqua, Pennsylvania 18252-9764 has filed a petition to modify the application of 30 CFR 75.1002-1 now 75.1002 (Installation of electric equipment and conductors; permissibility) to its (MSHA I.D. No. 36-07592) located in Schuylkill County, Pennsylvania. The petitioner requests a modification in the application of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before July 28, 2003. Copies of these petitions are available for inspection at that address.

Dated at Arlington, Virginia this 19th day of June 2003.
Marvin W. Nichols, Jr.,
Director, Office of Standards, Regulations, and Variances.

[FR Doc. 03-16249 Filed 6-26-03; 8:45 am]

BILLING CODE 4510-43-P